DEPARTMENT OF EDUCATION

[CFDA No.: 84.328M]

Office of Special Education and Rehabilitative Services; Special Education—Training and Information for Parents of Children with Disabilities

AGENCY: Department of Education.

ACTION: Notice inviting applications for new awards for fiscal year (FY) 2002.

SUMMARY: This notice provides closing dates and other information regarding the transmittal of applications for FY 2002 competitions under one program authorized by the Individuals with Disabilities Education Act (IDEA), as amended: Special Education—Training and Information for Parents of Children with Disabilities (one priority).

Waiver of Rulemaking

It is generally our practice to offer interested parties the opportunity to comment on proposed priorities. However, section 661(e)(2) of IDEA makes the rulemaking procedures in the Administrative Procedure Act (5 U.S.C. 553) inapplicable to the priority in this notice.

General Requirements

(a) The projects funded under this notice must make positive efforts to employ and advance in employment qualified individuals with disabilities in project activities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) Part III of each application submitted under this notice, the application narrative, is where an applicant addresses the selection criteria that are used by reviewers in evaluating the application. You must limit Part III to the equivalent of no more than the number of pages listed in the table at the end of this notice, using the following standards:

• A “page” is 8.5” × 11” (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I—the cover sheet; Part II—the budget section, including the narrative budget justification; Part IV, the assurances and certifications; or the one-page abstract, the resumes, the bibliography or references, or the letters of support. However, you must include all of the application narrative in Part III.

We will reject without consideration or evaluation any application if—

• You apply these standards and exceed the page limit; or

• You apply other standards and exceed the equivalent of the page limit.

Instructions for Transmittal of Applications

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2002, the U.S. Department of Education is continuing to expand its pilot project of electronic submission of applications to include additional formula grant programs and additional discretionary grant competitions. The Special Education—Training and Information for Parents of Children with Disabilities program—CFDA 84.328M is one of the programs included in the pilot project. If you are an applicant under the Special Education—Training and Information for Parents of Children with Disabilities program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Special Education—Training and Information for Parents of Children with Disabilities program at: http://e-grants.ed.gov. We have included additional information about the e-APPLICATION pilot project (see Parity Guidelines between Paper and Electronic Applications) in the application package.

Special Education—Training and Information for Parents of Children with Disabilities (CFDA No. 84.328M)

Purpose of Program: The purpose of this program is to ensure that parents of children with disabilities receive training and information to help improve results for their children.

Under section 682(e) of IDEA, the Assistant Secretary is required to: (a) Make at least one award to a parent organization in each State, unless the Assistant Secretary does not receive an application from such an organization in each State of sufficient quality to warrant approval; and (b) select among applications submitted by parent organizations in a State in a manner that ensures the most effective assistance to parents, including parents in urban and rural areas, in the State.

Applicable Regulations: (a) The Education Department General Administrative Regulations (EDGAR) in 34 CFR parts 74, 75, 77, 79, 80, 81, 82, 85, 97, 98, and 99; and (b) The selection criteria for this priority drawn from the EDGAR general selection criteria menu (34 CFR 75.210). The specific selection criteria for this priority are included in the funding application packet for this competition.

Eligible Applicants: Parent organizations, as defined in section 682(g) of IDEA. A parent organization is a private nonprofit organization (other than an institution of higher education) that:

(a) Has a board of directors, the parent and professional members of which are broadly representative of the population to be served and the majority of whom are parents of children with disabilities, that includes individuals with disabilities and individuals working in the fields of special education, related services, and early intervention; or

(b) Has a membership that represents the interests of individuals with disabilities and has established a special governing board meeting the requirements for a board of directors in paragraph (a) under Eligible Applicants and has a memorandum of understanding between this special governing board and the board of directors of the organization that clearly outlines the relationship between the board and the committee and the decisionmaking responsibilities and authority of each.

In addition, to demonstrate eligibility to receive a grant, an applicant must describe how its board or special governing committee meets the criteria for a parent organization in section 682(g) of IDEA. Any parent organization that establishes a special governing committee under section 682(g)(2) of IDEA must demonstrate that the bylaws of its organization allow the governing committee to be responsible for operating the project (consistent with existing fiscal policies of its organization).

Priority

Under sections 661(e) and 682 of IDEA and 34 CFR 75.105(c)(3), we give an absolute preference to applications that meet the following priority. We will fund under this competition only those applications that meet this priority: Absolute Priority—Parent Training and Information Centers (84.328M)

Background

The IDEA Amendments of 1997 strengthen the role of parents and increase their involvement in decisions about their children's education. In order to allocate resources more equitably, create a unified system of service delivery, and provide the broadest coverage for the parents and families in every State, the Assistant Secretary is making awards in five-year cycles for each State. In FY 2002, applications for 5-year awards will be accepted for Arkansas, California, Connecticut, Georgia, Illinois, Kansas, Michigan, Montana, New Jersey, New Mexico, Ohio, Oregon, South Carolina, Texas, and Utah. Exceptions to the 5-year awards will be in the States of Nebraska and New York where applications will be accepted for 4-year awards. Awards may also be made to authorized entities in Guam, the Commonwealth of the Northern Mariana Islands, and the Freely Associated States.

Priority

A Parent Training and Information Center must—

(a) Provide training and information that meets the training and information needs of parents of children with disabilities in the area served by the Center, particularly underserved parents and parents of children who may be inappropriately identified, including those who are not identified at all;

(b) Assist parents to understand the availability of, and how to effectively use, procedural safeguards under IDEA, including encouraging the use, and explaining the benefits, of alternative methods of dispute resolution, such as the mediation process described in IDEA;

(c) Serve the parents of infants, toddlers, and children with the full range of disabilities;

(d) Assist parents to—

(1) Better understand the nature of their children's disabilities and their educational and developmental needs;

(2) Communicate effectively with personnel responsible for providing special education, early intervention, and related services;

(3) Participate in decisionmaking processes and the development of individualized education programs and individualized family service plans;

(4) Obtain appropriate information about the range of options, programs, services, and resources available to assist children with disabilities and their families;

(5) Understand the provisions of IDEA for the education of, and the provision of early intervention services to, children with disabilities; and

(6) Participate in school reform activities;

(e) Contract with the State educational agency, if the State elects to contract with the Parent Training and Information Center, for the purpose of meeting with parents who choose not to use the mediation process to encourage the use, and explain the benefits, of mediation consistent with section 615(e)(2)(B) and (D) of IDEA;

(f) Establish cooperative relations with the Community Parent Resource Center or Centers in their State in accordance with section 683(b)(3) of IDEA;

(g) Network with appropriate clearinghouses, including organizations conducting national dissemination activities under section 685(d) of IDEA, and with other national, State, and local organizations and agencies, such as protection and advocacy agencies, that serve parents and families of children with the full range of disabilities;

(h) Annually report to the Assistant Secretary on—

(1) The number of parents to whom the Parent Training and Information Center provided information and training in the most recently concluded fiscal year, and

(2) The effectiveness of strategies used to reach and serve parents, including underserved parents of children with disabilities; and

(i) If there is more than one parent center in a particular State, coordinate its activities with the other center or centers to ensure the most effective assistance to parents in that State.

An applicant must identify the strategies it will undertake—

(a) To ensure that the needs for training and information for underserved parents of children with disabilities in the areas to be served are effectively met, particularly in underserved areas of the State; and

(b) To work with the community-based organizations, particularly in the underserved areas of the State.

A Parent Training and Information Center that receives assistance under this absolute priority may also conduct the following activities—

(a) Provide information to teachers and other professionals who provide special education and related services to children with disabilities;

(b) Assist students with disabilities to understand their rights and responsibilities on reaching the age of majority, as stated in section 615(m) of IDEA; and

(c) Assist parents of children with disabilities to be informed participants in the development and implementation of the State improvement plan under IDEA.

In addition to the annual Project Directors' meeting included in the “General Requirements” section of this notice, a project's budget must include funds to attend a regional Project Directors' meeting to be held each year of the project.

Current funding levels and population of school age children were factors in determining the funding levels for these grants. Regions were identified in California, Illinois, Michigan, Ohio, and Texas by using the educational services breakdowns operational within each State.

Project Period: With the exception of projects in the States of Nebraska and New York, projects will be funded for a period up to 60 months. Projects in the States of Nebraska and New York will be funded for a period up to 48 months.

Estimated Project Awards: Project award amounts are for a single budget period of 12 months. To ensure maximum coverage for this competition, the Assistant Secretary has adopted regional designations established by California, Illinois, Michigan, Ohio, and Texas and has identified corresponding maximum award amounts. Any applicant that applies for grants for more than one region must complete a separate application for each region.

In the following States, one award may be made in the following amounts to a qualified applicant for a parent center to serve the entire State:

—Arkansas $265,225

—Connecticut $283,050

—Georgia $481,750

—Kansas $299,475

—Montana $233,775

—New Jersey $465,750

—New Mexico $285,125

—Oregon $290,775

—South Carolina $295,560

—Utah $253,170

—Nebraska $230,625

—New York $234,075

(These figures represent the maximum amounts the Assistant Secretary will award. In addition, the Assistant Secretary has not specified maximum amounts for Guam, the Commonwealth of the Northern Mariana Islands, and the Freely Associated States).

In the following States with the exception of Illinois, one award will be made in the following amounts to a qualified applicant for a parent center to serve each identified Region. In Illinois Region 1, the Assistant Secretary will make up to two awards. The total of these two awards will not exceed the maximum amount listed in the chart below. A list of the counties that are included in each Region also follows.

California

—Region 1 $649,300

—Region 2 $532,300

—Region 3 $181,235

—Region 4 $473,785

—Region 5 $181,235

Illinois

—Region 1 $562,690

—Region 2 $289,570

Michigan

—Region 1 $249,265

—Region 2 $414,265

Ohio

—Region 1 $226,190

—Region 2 $438,115

Texas

—Region 1 $432,085

—Region 2 $432,085

—Region 3 $244,085

Consistent with EDGAR 34 CFR 75.104(b), we will reject any application that proposes a project funding level for any year that exceeds the stated maximum award amount for that year.

Listing of States/Regions/Counties

California Regions

Region 1 includes the following counties: Los Angeles, Ventura, Santa Barbara, San Luis Obispo.

Region 2 includes the following counties: Mono, Inyo, San Bernadino, Orange, Riverside, San Diego, Imperial.

Region 3 includes the following counties: Madera, Stanislaus, Mercer, Mariposa, San Benito, Monterey, Fresno, Kings, Tulare, Kern.

Region 4 includes the following counties: Sonoma, Napa, Yolo, Solano, Marin, Contra Costa, San Joaquin, Alameda, San Mateo, Santa Clara, Santa Cruz, San Francisco.

Region 5 includes the following counties: Del Norte, Humboldt, Mendocino, Sisklyou, Trinity, Shasta, Modoc, Lassen, Tehama, Lake, Glenn, Colusa, Butte, Sutter, Yuba, Sacramento, Nevada, Plumas, Sierra, Placer, El Dorado, Amador, Calavaras, Alpine, Tuolumne.

Illinois Regions

Region 1 includes the following counties: Cook, DuPage, Grundy, Kane, Kendall, Lake, McHenry, Will.

Region 2 includes the remainder of the State

Ohio Regions

Region 1 includes the following counties: Darke, Preble, Butler, Hamilton, Clermont, Brown, Adams, Scioto, Lawrence, Jackson, Pike, Ross, Fayette, Greene, Clark, Champaign, Logan, Shelby, Miami, Montgomery, Warren, Clinton, Highland.

Region 2 includes the remainder of the State.

Michigan Regions

Region 1 includes the following counties: Oakland, Macomb, Wayne.

Region 2 includes the remainder of the State.

Texas Regions:

Region 1 includes the following counties: Hardeman, Foard, Knox, Wilbarger, Baylor, Throckmorton, Wichita, Archer, Young, Clay, Jack, Montague, Cooke, Wise, Palo Pinto, Eralh, Parker, Hood, Somerveil, Denton, Tarrant, Johnson, Grayson, Collin, Dallas, Ellis, Fannin, Hunt, Rockwall, Kaufman, Lamar, Delta, Hopkins, Red River, Franklin, Titus, Camp, Morris, Bowie, Casa, Cass, Marion, Bosque, Hamilton, Mills, Lampaas, Coryell, Hill, McLennan, Bell, Navarro, Freestone, Limestone, Falls, Burnet, Llano, Gillespie, Kendall, Comal, Blanco, Williamson, Travis, Hays, Lee, Bastrop, Caldwell, Guadalupa, Fayette, Gonzales, Leon, Robertson, Millam, Burleston, Washington, Austin, Brazoa, Madison, Grimes, Houston, Trinity, Walker, Montgomery, Polk, San Jacinto, Tyler, Hardin, Jefferson, Orange, Jasper, Newton, Raine, Van Zandt, Henderson, Anderson, Wood, Smith, Cherokee, Upshur, Gregg, Rusk, Nacogdoches, Angelina, Harrison, Panola, Shelby, San Augustine, Sabine.

Region 2 includes the following counties: Kerr, Real, Kinney, Maverik, Uvalde, Zavala, Dimmit, Bandera, Medina, Frio, La Salle, Boxer, Atascosa, Wilson, Webb, Zapata, Jim Hogg, Staarr, Hidalgo, Willsoy, Cameron, McMullen, Duval, Live Oak, Jim Wells, Brooke, Nueces, Kisberg, Kenedy, San Patricio, Aransas, Bee, Karnes, Gollad, Dewitt, Lavaca, Colorado, Wharton, Malagorda, Jackson, Victoria, Refugio, Calhoun, Waller, Fort Bond, Brezoria, Harris, Galveston, Liberty, Chambers.

Region 3 includes the following counties: El Paso, Hudspeth, Culberson, Jeff Davis, Presidio, Reeves, Brewster, Pecos, Terrell, Dallam, Hartley, Oldham, Deaf Smith, Parmer, Bailey, Cochran, Yoakum, Gaines, Andrews, Loving, Winkler, Ward, Sharman, Moore, Potter, Randall, Castro, Swisher, Lamb, Hockley, Terry, Ector, Crane, Upton, Reagan, Midland, Glasscook, Dawson, Martin, Borden, Howard, Hansford, Hutchinson, Carson, Armstrong, Briscoe, Ochiltree, Roberts, Gray, Donley, Hall, Lipscomb, Hemphill, Wheeler, Collingsworth, Childress, Hale, Lubbock, Lynn, Floyd, Crosby, Garza, Motley, Dickens, Kent, Cottle, King, Scurry, Mitchell, Stonewall, Fisher, Nolan, Haskall, Jones, Taylor, Shackelford, Callahan, Stephens, Eastland, Sterling, Irion, Crockett, Val Verde, Coke, Tom Green, Schlelcher, Sutton, Edwards, Runnels, Concho, Menard, Kimble, Coleman, McCulloch, Mason, Brown, San Sabe.

Page Limits: The maximum page limit for this priority is 50 double-spaced pages.

Note: Applications must meet the required page limit standards that are described in the “General Requirements” section of this notice.

For Applications Contact: Education Publications Center (ED Pubs), PO Box 1398, Jessup, Maryland 20794-1398. Telephone (toll free): 1-877-4ED-Pubs (1-877-433-7827). FAX: 301-470-1244. If you use a telecommunications device for the deaf (TDD), you may call (toll free) 1-877-576-7734.

You may also contact Ed Pubs at its Web site: http://www.ed.gov/pubs/edpubs.html

Or you may contact Ed Pubs at its e-mail address: edpubs@inet.ed.gov

If you request an application from Ed Pubs, be sure to identify this competition as follows: CFDA No. 84.328M.

FOR FURTHER INFORMATION CONTACT: Grants and Contracts Services Team, U.S. Department of Education, 400 Maryland Avenue, SW., room 3317, Switzer Building, Washington, DC 20202-2550. Telephone: (202) 205-8207.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT.

Individuals with disabilities may also obtain a copy of the application package in an alternative format by contacting the Grants and Contracts Services Team under FOR FURTHER INFORMATION CONTACT. However, the Department is not able to reproduce in an alternative format the standard forms included in the application package.

Intergovernmental Review

This program is subject to the requirements of Executive Order 12372 and the regulations in 34 CFR part 79. One of the objectives of the Executive order is to foster an intergovernmental partnership and a strengthened federalism. The Executive Order relies on processes developed by State and local governments for coordination and review of proposed Federal financial assistance. This document provides early notification of our specific plans and actions for this program.

Electronic Access to This Document

You may view this document, as well as all other Department of Education documents published in the Federal Register, in text or Adobe Portable Document Format (PDF) on the internet at the following site: www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html

Program Authority: 20 U.S.C. 1482.

Dated: May 20, 2002.
Robert H. Pasternack,
Assistant Secretary for Special Education and Rehabilitative Services.

Individuals With Disabilities Education Act—Application Notice for Fiscal Year 2002
CFDA number and name: 84.328M—special education—training and information for parents of children with disabilities | Applications available | Application deadline date | Deadline for Intergovernmental review | Maximum award (per year)* | Estimated range of awards | Estimated average size of awards | Estimated number of awards | Project period | Page limit**
Parent Training and Information Centers | 05/24/02 | 07/08/02 | 09/06/02 |  | $100,000 | $273,355 | 27 | Up to 60 mos. | 50
Arkansas |  |  |  | $265,225 | $585,000 |  |  |  |
Connecticut |  |  |  | $283,050
Georgia |  |  |  | $481,750
Kansas |  |  |  | $299,475
Montana |  |  |  | $233,775
New Jersey |  |  |  | $465,750
New Mexico |  |  |  | $285,125
Oregon |  |  |  | $290,775
South Carolina |  |  |  | $295,560
Utah |  |  |  |  | $253,170
Nebraska |  |  |  | $230,625 |  |  |  | Up to 48 mos. |
New York |  |  |  | $234,075 |  |  |  | Up to 48 mos. |
California: |  |  |  |  |  |  |  | Up to 60 mos.
Region 1 |  |  |  | $649,300
Region 2 |  |  |  | $532,300
Region 3 |  |  |  | $181,235
Region 4 |  |  |  | $473,785
Region 5 |  |  |  | $181,235
Illinois: |  |  |  |  |  |  |  | Up to 60 mos.
Region 1 |  |  |  | $562,690
Region 2 |  |  |  | $289,570
Michigan: |  |  |  |  |  |  |  | Up to 60 mos.
Region 1 |  |  |  | $249,265
Region 2 |  |  |  | $414,265
Ohio: |  |  |  |  |  |  |  | Up to 60 mos.
Region 1 |  |  |  | $226,190
Region 2 |  |  |  | $438,115
Texas: |  |  |  |  |  |  |  | Up to 60 mos.
Region 1 |  |  |  | $432,085
Region 2 |  |  |  | $432,085
Region 3 |  |  |  | $244,085
*Consistent with EDGAR 34 CFR 75.104(b), we will reject any application that proposes a project funding level for any year that exceeds the stated maximum award amount for that year. Awards may also be made to authorized entities in Guam, the Commonwealth of the Northern Mariana Islands, and the Freely Associated States. However, the Assistant Secretary has not specified maximum funding levels for these entities. ** Applicants must limit the Application Narrative, Part III of the Application, to the page limits noted in the table in this notice. Please refer to the “Page Limit” requirements included in the priority description and the page limit standards described in the “General Requirements” section. We will reject and will not consider an application that does not adhere to this requirement.
Note:The Department of Education is not bound by any estimates in this notice.

[FR Doc. 02-13159 Filed 5-23-02; 8:45 am]

BILLING CODE 4000-01-P